DEPARTMENT OF THE TREASURY

Internal Revenue Service

26 CFR Part 1

[TD 9105]

RIN 1545-BC17

Changes in Computing Depreciation; Correction

AGENCY: Internal Revenue Service (IRS), Treasury.

ACTION: Correction to final and temporary regulations.

SUMMARY: This document corrects final and temporary regulations (TD 9105) that were published in the Federal Register on January 2, 2004 (69 FR 5). The document contains regulations relating to a change in computing depreciation or amortization as well as a change from a nondepreciable or nonamortizable asset to a depreciable or amortizable asset (or vice versa).

DATES: This correction is effective January 2, 2004.

FOR FURTHER INFORMATION CONTACT: Sara Logan, (202) 622-3110 (not a toll-free number).

SUPPLEMENTARY INFORMATION:

Background

The final and temporary regulations (TD 9105) that is the subject of this correction is under section 446(e) of the Internal Revenue Code.

Need for Correction

As published, the final and temporary regulations (TD 9105) contain errors that may prove to be misleading and are in need of clarification.

Correction of Publication

Accordingly, the publication of the final and temporary regulations (TD 9105) that was the subject of FR. Doc. 03-31820, are corrected as follows:

1. On page 6, column 1, in the preamble, paragraph 3, line 3, the language “T.C.Memo. 2003-75, the Tax Court” is corrected to read “T.C. Memo. 2003-75, the Tax Court”.

§ 1.167(e)-1T [Corrected]

2. On page 8, column 1, § 1.167(e)-1T, paragraph (e), last line in the paragraph, the language “expires on or before January 2, 2007” is corrected to read “expires on or before December 29, 2006”.

§ 1.446-1T [Corrected]

3. On page 12, column 2, § 1.446-1T, paragraph (e)(4)(iii), line 3, the language “January 2, 2007.” is corrected to read “December 29, 2006.”.

§ 1.1016-3T [Corrected]

4. On page 12, column 3, § 1.1016-3T, paragraph (j)(3), line 2, the language “expires on or before January 2, 2007.” is corrected to read “expires on or before December 29, 2006.”.

Cynthia E. Grigsby,
Acting Chief, Publications and Regulations Branch, Legal Processing Division, Associate Chief Counsel (Procedures and Administration).

[FR Doc. 04-2296 Filed 2-3-04; 8:45 am]

BILLING CODE 4830-01-P